SECURITIES AND EXCHANGE COMMISSION

17 CFR Parts 210 and 240

[Release No. 33-7880; 34-43133; File No. S7-13-00]

Revision of the Commission's Auditor Independence Requirements

AGENCY: Securities and Exchange Commission.

ACTION: Notice of additional hearings.

SUMMARY: On June 27, 2000, the Securities and Exchange Commission proposed rule amendments regarding auditor independence (copies of the Proposing Release are available on the Commission's website at <www.sec.gov/rules/proposed/34-42994.htm>). On July 26, 2000, the Commission held an initial public hearing in Washington, D.C. on its proposed rule amendments. We are now announcing that we will hold additional public hearings on the proposed rule amendments on September 13, 2000 in New York, New York and on September 20, 2000 in Washington, D.C. The purpose of the hearings is to give the public the opportunity to present views regarding the issues raised and questions posed in the Proposing Release.

DATES: The public hearings will be held on September 13, 2000 in New York, New York and on September 20, 2000 in Washington, D.C. (addresses to be announced). The hearings on both days will begin at 9:00 a.m. Parties who wish to testify at either hearing must submit a written request to the Commission specifying on which date they prefer to testify. The Commission must receive these requests on or before August 25, 2000. Persons requesting to testify must also submit three copies of their oral statement, or a summary of their intended testimony, to the Commission. The Commission must receive these submissions on or before September 5, 2000. Interested parties who do not wish to appear at the hearings may submit written testimony by the end of the comment period for the Proposing Release (September 25, 2000) for inclusion in the public comment file.

ADDITIONAL INFORMATION: Requests to appear, oral statements or summaries of testimony, and other written testimony or comments should be mailed to Jonathan G. Katz, Secretary, Securities and Exchange Commission, 450 Fifth Street, NW, Washington, DC 20459 or filed electronically at the following e-mail address: rule-comments@sec.gov. All requests to appear, oral statements or summaries of testimony, and other written testimony or comments should refer to Comment File No. 87-13-00. In addition, the words “Request to Testify” should be clearly noted on the subject line of the request. Copies of all requests and other submissions and transcripts of the hearing will be available for public inspection and copying in the Commission's Public Reference Room at 450 Fifth Street, NW, Washington, DC 20549. Electronically submitted requests and other materials will be posted on the Commission's intenet web site (www.sec.gov) following the hearings.

FOR FURTHER INFORMATION CONTACT: John M. Morrissey, Deputy Chief Accountant, or W. Scott Bayless, Associate Chief Accountant, Office of the Chief Accountant, at (202) 942-4400.

SUPPLEMENTARY INFORMATION:

I. Summary of Rule Proposals

The public hearings concern the Commission's proposed rule amendments regarding auditor independence. As more fully described in the Proposing Release, the proposals modernize our requirements by providing governing principles for determining whether an auditor is independent in light of: investments by auditors or their family members in audit clients, employment relationships between auditors or their family members and audit clients, and the scope of services provided by audit firms to their audit clients. The proposals would, among other things, significantly reduce the number of audit firm employees and their family members whose investments in audit clients are attributed to the auditor. They would also identify certain non-audit services that, if provided to an audit client, would impair an auditor's independence. The scope of services proposals would not extend to services provided to non-audit clients. The proposals also would provide a limited exception for accounting firms that have certain quality controls and satisfy other conditions. Finally, the proposals would require companies to disclose in their annual proxy statements certain information about, among other things, non-audit services provided by their auditors during the last fiscal year. The Commission will consider the hearing record in connection with its rulemaking proposals.

II. Procedures for Hearing

After August 25, 2000, we will publish a schedule of appearances for the hearings to be held on September 13 and 20. Based on the number of requests received, we may not be able to accommodate all requests. As we did for the hearings held on July 26, we also may limit the time for formal presentations or group presentations into a series of panels. Time will be reserved for members of the Commission and Commission staff to pose questions to the witnesses concerning their testimony as well as other matters pertaining to the Proposing Release. The Commission has designated Jonathan G. Katz, Secretary of the Commission, as the hearing officer.

Dated: August 10, 2000.
By the Commission.
Jonathan G. Katz,
Secretary.

[FR Doc. 00-20667 Filed 8-15-00; 8:45 am]

BILLING CODE 8010-01-M